DEPARTMENT OF TRANSPORTATION

Federal Aviation Administration

14 CFR Part 13 and 406

Office of the Secretary

14 CFR Part 383

Saint Lawrence Seaway Development Corporation

33 CFR Part 401

Maritime Administration

46 CFR Parts 221, 307, 340, and 356

Pipeline and Hazardous Materials Safety Administration

49 CFR Parts 107, 171, and 190

Federal Railroad Administration

49 CFR Parts 209, 213, 214, 215, 216, 217, 218, 219, 220, 221, 222, 223, 224, 225, 227, 228, 229, 230, 231, 232, 233, 234, 235, 236, 237, 238, 239, 240, 241, 242, 243, 244, 270, and 272

Federal Motor Carrier Safety Administration

49 CFR Part 386

National Highway Traffic Safety Administration

49 CFR Part 578

RIN 2105-AE80

Revisions to Civil Penalty Amounts

Correction

In rule document 2019-14101 beginning on page 37059 in the issue of Wednesday, July 31, 2019, make the following correction:

§ 222.11 [Amended]

On page 37073, in the second column, amendatory instruction 47c should read as follows:

c. Remove the dollar amount “$113,894” and add in its place “$116,766”.

[FR Doc. C1-2019-14101 Filed 10-28-19; 8:45 am]

BILLING CODE 1301-00-D